DEPARTMENT OF ENERGY

Federal Energy Regulatory Commission

Combined Notice of Filings

Take notice that the Commission has received the following Natural Gas Pipeline Rate and Refund Report filings:

Filings in Existing Proceedings

Docket Numbers:RP20-614-005; RP20-618-002.

Applicants:Transcontinental Gas Pipe Line Company, LLC, Transcontinental Gas Pipe Line Company, LLC.

Description:Notice of Transcontinental Gas Pipe Line Company, LLC in Lieu of Pro Forma Tariff Filing.

Filed Date: 9/29/22.

Accession Number: 20220929-5193.

Comment Date: 5 p.m. ET 10/5/22.

Any person desiring to protest in any the above proceedings must file in accordance with Rule 211 of the Commission's Regulations (18 CFR 385.211) on or before 5:00 p.m. Eastern time on the specified comment date.

Filings Instituting Proceedings

Docket Numbers:PR22-72-000.

Applicants: Permian Highway Pipeline LLC.

Description:§ 284.123 Rate Filing: Fuel Filing 10.01.2022 to be effective 10/1/2022.

Filed Date: 9/29/22.

Accession Number: 20220929-5171.

Comment Date:5 p.m. ET 10/20/22.

Docket Numbers:PR22-73-000.

Applicants:Centana Intrastate Pipeline, LLC.

Description:§ 284.123(g) Rate Filing: Centana SOC 7.0.0 to be effective 9/1/2022.

Filed Date: 9/30/22.

Accession Number:20220930-5056.

Comment Date:5 p.m. ET 10/21/22

284.123(g) Protests:5 p.m. ET 11/29/22.

Docket Numbers:RP22-1258-000.

Applicants:Colorado Interstate Gas Company, L.L.C.

Description:§ 4(d) Rate Filing: Negotiated Rate Agreement Filing (Northwestern Nov 22) to be effective 11/1/2022.

Filed Date: 9/29/22.

Accession Number: 20220929-5034.

Comment Date: 5 p.m. ET 10/11/22.

Docket Numbers: RP22-1259-000.

Applicants: Ruby Pipeline, L.L.C.

Description: § 4(d) Rate Filing: Negotiated Rate Agreements (SWG Oct and Nov) to be effective 10/1/2022.

Filed Date: 9/29/22.

Accession Number: 20220929-5037.

Comment Date: 5 p.m. ET 10/11/22.

Docket Numbers: RP22-1260-000.

Applicants: El Paso Natural Gas Company, L.L.C.

Description: § 4(d) Rate Filing: Negotiated Rate Agreements (Morgan_ETC_Eco_EOG) to be effective 11/1/2022.

Filed Date: 9/29/22.

Accession Number: 20220929-5041.

Comment Date: 5 p.m. ET 10/11/22.

Docket Numbers: RP22-1261-000.

Applicants: Young Gas Storage Company, Ltd.

Description: Compliance filing: Operational Purchase and Sale Report 2022 to be effective N/A.

Filed Date: 9/29/22.

Accession Number: 20220929-5050.

Comment Date: 5 p.m. ET 10/11/22.

Docket Numbers: RP22-1262-000.

Applicants: Wyoming Interstate Company, L.L.C.

Description: Compliance filing: Operational Purchase and Sale Report 2022 to be effective N/A.

Filed Date: 9/29/22.

Accession Number: 20220929-5052.

Comment Date: 5 p.m. ET 10/11/22.

Docket Numbers: RP22-1263-000.

Applicants: Transcontinental Gas Pipe Line Company, LLC.

Description: § 4(d) Rate Filing: List of Non-Conforming Service Agreements (CEC_VNG_Interim Svc) to be effective 11/1/2022.

Filed Date: 9/29/22.

Accession Number: 20220929-5053.

Comment Date: 5 p.m. ET 10/11/22.

Docket Numbers: RP22-1264-000.

Applicants: Enable Gas Transmission, LLC.

Description: § 4(d) Rate Filing: Fuel Tracker Filing—Effective November 1, 2022 to be effective 11/1/2022.

Filed Date: 9/29/22.

Accession Number: 20220929-5070.

Comment Date: 5 p.m. ET 10/11/22.

Docket Numbers: RP22-1265-000.

Applicants: Enable Mississippi River Transmission, LLC.

Description: § 4(d) Rate Filing: 2022 MRT Annual Fuel Filing to be effective 11/1/2022.

Filed Date: 9/29/22.

Accession Number: 20220929-5071.

Comment Date: 5 p.m. ET 10/11/22.

Docket Numbers: RP22-1267-000.

Applicants: Transcontinental Gas Pipe Line Company, LLC.

Description: Compliance filing: Annual Cash-Out Report Period Ending July 31, 2022 to be effective N/A.

Filed Date: 9/29/22.

Accession Number: 20220929-5114.

Comment Date: 5 p.m. ET 10/11/22.

Docket Numbers: RP22-1268-000.

Applicants: National Fuel Gas Supply Corporation.

Description: § 4(d) Rate Filing: GT&C Section 42 PS/GHG Tracker (Effective 11-01-22) to be effective 11/1/2022.

Filed Date: 9/30/22.

Accession Number: 20220930-5042.

Comment Date: 5 p.m. ET 10/12/22.

Docket Numbers: RP22-1269-000.

Applicants: Carolina Gas Transmission, LLC.

Description: § 4(d) Rate Filing: CGT—2022 FRQ and TDA Report to be effective 11/1/2022.

Filed Date: 9/30/22.

Accession Number: 20220930-5046.

Comment Date: 5 p.m. ET 10/12/22.

Docket Numbers: RP22-1270-000.

Applicants: Portland Natural Gas Transmission System.

Description: § 4(d) Rate Filing: WXP Phase III Agmt Filings—Bangor and Northern Utilities to be effective 11/1/2022.

Filed Date: 9/30/22.

Accession Number: 20220930-5057.

Comment Date: 5 p.m. ET 10/12/22.

Docket Numbers: RP22-1271-000.

Applicants: Alliance Pipeline L.P.

Description: § 4(d) Rate Filing: APL 2022 Fuel Filing to be effective 11/1/2022.

Filed Date: 9/30/22.

Accession Number: 20220930-5066.

Comment Date: 5 p.m. ET 10/12/22.

Docket Numbers: RP22-1272-000.

Applicants: Saltville Gas Storage Company L.L.C.

Description: § 4(d) Rate Filing: SGSC 2022 Fuel Filing to be effective 11/1/2022.

Filed Date: 9/30/22.

Accession Number: 20220930-5068.

Comment Date: 5 p.m. ET 10/12/22.

Docket Numbers: RP22-1273-000.

Applicants: Alliance Pipeline L.P.

Description: § 4(d) Rate Filing: Negotiated Rates—Various Oct 1 2022 Releases to be effective 10/1/2022.

Filed Date: 9/30/22.

Accession Number: 20220930-5070.

Comment Date: 5 p.m. ET 10/12/22.

Docket Numbers: RP22-1274-000.

Applicants: Panhandle Eastern Pipe Line Company, LP.

Description: § 4(d) Rate Filing: Fuel Filing on 9-30-22 to be effective 11/1/2022.

Filed Date: 9/30/22.

Accession Number: 20220930-5076.

Comment Date: 5 p.m. ET 10/12/22.

Docket Numbers: RP22-1275-000.

Applicants: Transcontinental Gas Pipe Line Company, LLC.

Description: § 4(d) Rate Filing: Cash Out Surcharge Annual Update Filing 2022 to be effective 11/1/2022.

Filed Date: 9/30/22.

Accession Number: 20220930-5077.

Comment Date: 5 p.m. ET 10/12/22.

Docket Numbers: RP22-1276-000.

Applicants: Trunkline Gas Company, LLC.

Description: § 4(d) Rate Filing: Fuel Filing on 9-30-22 to be effective 11/1/2022.

Filed Date: 9/30/22.

Accession Number: 20220930-5078.

Comment Date: 5 p.m. ET 10/12/22.

Docket Numbers: RP22-1277-000.

Applicants: Rover Pipeline LLC.

Description: § 4(d) Rate Filing: Fuel Filing on 9-30-22 to be effective 11/1/2022.

Filed Date: 9/30/22.

Accession Number: 20220930-5079.

Comment Date: 5 p.m. ET 10/12/22.

Docket Numbers: RP22-1278-000.

Applicants: Carlsbad Gateway, LLC.

Description: § 4(d) Rate Filing: Carlsbad Gateway FandL Filing to be effective 11/1/2022.

Filed Date: 9/30/22.

Accession Number: 20220930-5086.

Comment Date: 5 p.m. ET 10/12/22.

Docket Numbers: RP22-1279-000.

Applicants: Cheniere Creole Trail Pipeline, L.P.

Description: § 4(d) Rate Filing: Cheniere Creole Trail Out-of-Cycle Retainage Adjustment to be effective 11/1/2022.

Filed Date: 9/30/22.

Accession Number: 20220930-5088.

Comment Date: 5 p.m. ET 10/12/22.

Docket Numbers: RP22-1280-000.

Applicants: Cheniere Corpus Christi Pipeline, LP.

Description: Compliance filing: Cheniere Corpus Christi Retainage Filing to be effective N/A.

Filed Date: 9/30/22.

Accession Number: 20220930-5089.

Comment Date: 5 p.m. ET 10/12/22.

Docket Numbers: RP22-1281-000.

Applicants: El Paso Natural Gas Company, L.L.C.

Description: § 4(d) Rate Filing: Negotiated Rate Agmt Update (Conoco—Oct 22) to be effective 10/1/2022.

Filed Date: 9/30/22.

Accession Number: 20220930-5094.

Comment Date: 5 p.m. ET 10/12/22.

Docket Numbers: RP22-1282-000.

Applicants: Eastern Gas Transmission and Storage, Inc.

Description: § 4(d) Rate Filing: EGTS—2022 Annual EPCA to be effective 11/1/2022.

Filed Date: 9/30/22.

Accession Number: 20220930-5100.

Comment Date: 5 p.m. ET 10/12/22.

Docket Numbers: RP22-1283-000.

Applicants: Eastern Gas Transmission and Storage, Inc.

Description: § 4(d) Rate Filing: EGTS—2022 Annual TCRA to be effective 11/1/2022.

Filed Date: 9/30/22.

Accession Number: 20220930-5108.

Comment Date: 5 p.m. ET 10/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2022.
Debbie-Anne A. Reese,
Deputy Secretary.

[FR Doc. 2022-21777 Filed 10-5-22; 8:45 am]

BILLING CODE 6717-01-P